DEPARTMENT OF ENERGY

Notice of Public Meeting to Provide Comments on Draft Materials to Improve FERC-USACE Coordinated Regulatory Processes for Non-Federal Development of Hydropower at USACE Non-Hydropower Dams

AGENCY: Office of Energy Efficiency and Renewable Energy, Department of Energy.

ACTION: Announcement of meeting.

SUMMARY: This notice announces a meeting to obtain individual public input on new ideas developed collaboratively by the Department of Energy (DOE), Federal Energy Regulatory Commission (FERC) and U.S. Army Corps of Engineers (USACE) aimed at improving coordination of FERC and USACE regulatory processes regarding non-federal development of hydropower at USACE non-powered dams. DOE estimates that there is a potential for 12 gigawatts of new hydropower capacity in the U.S. by adding power at non-powered dams.¹ Adding power at USACE non-powered dams requires federal authorizations, potentially including authorizations via: The FERC licensing process ², the USACE 408 process ³, and the USACE regulatory 404 process ⁴ (impacts to waters of the U.S. pursuant to Section 404 of the Clean Water Act). All three of these processes require project proposal identification, information gathering, and environmental and engineering analyses to support licensing, permitting, or agency decisions.

¹ National Hydropower Asset Assessment Program, Non-Powered Dam Resource Assessment can be found at http://nhaap.ornl.gov/content/non-powered-dam-potential.

² 18 U.S.C. 4, 5, and 16.

³ Section 14 of the Rivers and Harbors Act of 1899 (33 U.S.C. 408).

⁴ Section 404 of the Clean Water Act (33 U.S.C. 1344).

DATES: The meeting will be held on Thursday, December 10th, 2015, from 1:00-5:00 p.m. Eastern Time.

ADDRESSES: The meeting will be held at the Federal Energy Regulatory Commission (FERC), 888 First Street NE., Hearing Room 1, Washington, DC 20426.

FOR FURTHER INFORMATION CONTACT: Patrick Gilman, Department of Energy at (720) 356-1420 or Patrick.Gilman@ee.doe.gov, or Hoyt Battey, Department of Energy, at (202) 586-0143 or Hoyt.Battey@ee.doe.gov.

SUPPLEMENTARY INFORMATION: DOE with the assistance of Oak Ridge National Laboratory convened a collaborative process with FERC and USACE staff to develop ideas on how FERC and USACE permitting efforts can be more efficiently coordinated to decrease overall process time and avoid duplication of efforts.

The focus of the public meeting will be for agencies to receive public input, questions, and recommendations for areas of potential improvement in the coordination of FERC and USACE regulatory processes regarding non-federal development of hydropower at USACE non-powered dams and provide a forum to exchange information. Attendees will be asked to provide these recommendations and information based on their personal experience, individual advice, information, or facts regarding this topic. The object of the meeting is not to obtain any group position or consensus; rather, the agencies are seeking as many recommendations as possible from all individuals at this meeting. Draft documents outlining preliminary ideas for improving processes can be viewed at the meeting Web site: http://hydropower.ornl.gov/npd-public-workshop/. The meeting is open to the public; project developers, those involved in adding power at non-power dams, environmental non-governmental organizations, tribes, and all interested members of the public are encouraged to attend. Pre-registration is required as space is limited. Register at http://hydropower.ornl.gov/npd-public-workshop/; or contact Kelsey Rugani at Kearns & West (krugani@kearnswest.com, (415) 391-7900) to RSVP.

If you are unable to attend and want to provide written comments, please do so by 11:59 p.m. EST on December 18th. Please send all comments to Hydropermitting@ee.doe.gov.

Jim Ahlgrimm,
Supervisory General Engineer, Wind and Water Power Program, Office of Energy Efficiency and Renewable Energy.

[FR Doc. 2015-28875 Filed 11-12-15; 8:45 am]

BILLING CODE 6450-01-P